DEPARTMENT OF HEALTH AND HUMAN SERVICES

Administration for Children and Families

Privacy Act of 1974, as amended; Computer Matching Program

AGENCY: Office of Child Support Enforcement (OCSE), ACF, DHHS.

ACTION: Notice of a computer matching program.

SUMMARY: In compliance with the Privacy Act of 1974, as amended by Public Law 100-503, the Computer Matching and Privacy Protection Act of 1988, we are publishing a notice of a computer matching program that OCSE will conduct on behalf of itself and State Temporary Assistance for Needy Families (TANF) programs to facilitate the verification of eligibility of TANF recipients. The match will utilize National Directory of New Hires (NDNH) records and State TANF records.

DATES: OCSE will file a report of the subject matching program with the Committee on Homeland Security and Governmental Affairs of the Senate, the Committee on Government Reform and Oversight of the House of Representatives, and the Office of Information and Regulatory Affairs, Office of Management and Budget (OMB). The matching program will be effective as indicated below.

ADDRESSES: Interested parties may comment on this notice by writing to the Director, Division of Federal Systems, Office of Child Support Enforcement, Aerospace Building, 370 L'Enfant Promenade, SW., Washington, DC 20447. All comments received will be available for public inspection at this address.

FOR FURTHER INFORMATION CONTACT: Director, Division of Federal Systems, Office of Child Support Enforcement, Aerospace Building, 370 L'Enfant Promenade, SW., Washington, DC 20447. Telephone Number (202) 401-9271.

SUPPLEMENTARY INFORMATION: The Privacy Act (5 U.S.C. 552a), as amended, provides for certain protections for individuals applying for and receiving Federal benefits. The law regulates the use of computer matching by Federal agencies when records in a system of records are matched with other Federal, state and local government records.

The Privacy Act requires agencies involved in computer matching programs to:

1. Negotiate written agreements with the other agency or agencies participating in the matching programs;

2. Provide notification to applicants and beneficiaries that their records are subject to matching;

3. Verify match findings before reducing, suspending, or terminating an individual's benefits or payments;

4. Furnish detailed reports to Congress and OMB; and

5. Establish a Data Integrity Board that must approve matching agreements.

This Computer Match meets the requirements of 5 U.S.C. 552a.

Dated: April 21, 2005.
David H. Siegel,
Acting Commissioner, Office of Child Support Enforcement.

Notice of Computer Matching Program

A. Participating Agencies

OCSE and State UC programs.

B. Purpose of the Matching Program

To exchange personal data for purposes of administering an unemployment compensation program under Federal or State law.

OCSE will match UC records, furnished by State UC programs, against information in the NDNH. After matching has been conducted, OCSE will provide match results to State UC programs which will use this information to administer the UC program.

C. Authority for Conducting the Match

The authority for conducting the matching program is contained in section 453(j)(8) of the Social Security Act (42 U.S.C. 653(j)(8)).

D. Categories of Records and Individuals Covered by the Matching Program

The system of records maintained by the ACF under the Privacy Act of 1974, as amended, 5 U.S.C. 552a, from which records will be disclosed for the purpose of this computer match, is the Location and Collection system of records, DHHS/OCSE No. 09-90-0074, last published in the Federal Register at 69 FR 31392 on June 3, 2004. The NDNH is maintained within the Location and Collection system of records. The matching program is a routine use under this system of records.

State UC programs will provide to OCSE electronic files containing the names and other personal identifying data of UC recipients. Upon receipt of the electronic files of UC recipients, OCSE will perform a computer match against the NDNH. The NDNH database consists of Quarterly Wage, New Hire, and Unemployment Insurance information. The results of the matching program will be furnished by OCSE to State UC programs.

1. The electronic files provided by State UC programs will contain data elements of the recipient's name and Social Security number (SSN).

2. OCSE will match the SSN on the State UC file by computer against the NDNH database. Matching records, based on SSNs, will produce data elements of the individual's name, SSN, home address, and employment information.

E. Inclusive Dates of the Matching Program

The effective date of the matching agreement and date when matching may actually begin shall be July 1, 2005. This Computer Matching Notice is being published in the Federal Register at least 30 days prior to that date, and at least 40 days prior to that date OCSE shall send a matching program notice to the Congressional committees of jurisdiction under 5 U.S.C. 552a(o)(2)(A); and to OMB. By agreement between ACF and State UC programs, the matching program will be in effect for 18 months from the effective date, with an option to renew for 12 additional months, unless one of the parties to the agreement advises the other by written request to terminate or modify the agreement.

[FR Doc. 05-8715 Filed 4-29-05; 8:45 am]

BILLING CODE 4184-01-M